DEPARTMENT OF TRANSPORTATION

Federal Aviation Administration

14 CFR Part 39

[Docket No. FAA-2022-0986; Project Identifier MCAI-2021-01440-T; Amendment 39-22201; AD 2022-21-02]

RIN 2120-AA64

Airworthiness Directives; Airbus SAS Airplanes

AGENCY: Federal Aviation Administration (FAA), Department of Transportation (DOT).

ACTION: Final rule.

SUMMARY: The FAA is superseding Airworthiness Directive (AD) 2000-20-15, which applied to certain Airbus SAS Model A300 and A300-600 series airplanes. AD 2000-20-15 required a high frequency eddy current (HFEC) inspection to detect cracking of the rear fittings of fuselage frame FR40 at stringer 27, and repetitive inspections or repair, as applicable. In lieu of accomplishing the repetitive inspections, AD 2000-20-15 provided a modification that would allow the inspection to be deferred for a certain period of time. This AD was prompted by cracking of the rear fittings of fuselage frame FR40 at stringer 27, and a determination that reduced compliance times are necessary. This AD removes airplanes from the applicability, and continues to require the actions in AD 2000-20-15, but at reduced compliance times, as specified in a European Union Aviation Safety Agency (EASA) AD, which is incorporated by reference. The FAA is issuing this AD to address the unsafe condition on these products.

DATES: This AD is effective December 14, 2022.

The Director of the Federal Register approved the incorporation by reference of a certain publication listed in this AD as of December 14, 2022.

ADDRESSES:

AD Docket: You may examine the AD docket at regulations.gov under Docket No. FAA-2022-0986; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For material incorporated by reference in this AD, contact EASA, Konrad-Adenauer-Ufer 3, 50668 Cologne, Germany; telephone +49 221 8999 000; email ADs@easa.europa.eu; website easa.europa.eu. You may find this IBR material on the EASA website at ad.easa.europa.eu.

• You may view this material at the FAA, Airworthiness Products Section, Operational Safety Branch, 2200 South 216th St., Des Moines, WA. For information on the availability of this material at the FAA, call 206-231-3195. It is also available in the AD docket at regulations.gov under Docket No. FAA-2022-0986.

FOR FURTHER INFORMATION CONTACT: Dan Rodina, Aerospace Engineer, Large Aircraft Section, FAA, International Validation Branch, 2200 South 216th St., Des Moines, WA 98198; telephone and fax 206-231-3225; email dan.rodina@faa.gov.

SUPPLEMENTARY INFORMATION:

Background

The FAA issued a notice of proposed rulemaking (NPRM) to amend 14 CFR part 39 to supersede AD 2000-20-15, Amendment 39-11926 (65 FR 60349, October 11, 2000) (AD 2000-20-15). AD 2000-20-15 applied to certain Airbus SAS Model A300 and A300-600 series airplanes. AD 2000-20-15 required a HFEC inspection to detect cracking of the rear fittings of fuselage frame FR40 at stringer 27, and repetitive inspections or repair, as applicable. In lieu of accomplishing the repetitive inspections, AD 2000-20-15 provides a modification that would allow the inspection to be deferred for a certain period of time. The FAA issued AD 2000-20-15 to address fatigue cracking of the rear fittings of fuselage frame FR40 at stringer 27, which could result in reduced structural integrity of the airplane.

The NPRM published in the Federal Register on August 2, 2022 (87 FR 47144). The NPRM was prompted by EASA AD 2021-0288, dated December 21, 2021, issued by the European Union Aviation Safety Agency (referred to after this as the MCAI). The MCAI states that cracking of the rear fittings of fuselage frame FR40 at stringer 27 was found, and a determination made that reduced compliance times are necessary.

You may examine the MCAI in the AD docket at regulations.gov under Docket No. FAA-2022-0986.

In the NPRM, the FAA proposed to continue to require the actions in AD 2000-20-15, but at reduced compliance times, as specified in EASA AD 2021-0288, dated December 21, 2021. The NPRM also proposed to remove airplanes from the applicability, as specified in EASA AD 2021-0288. The FAA is issuing this AD to address the unsafe condition on these products.

Discussion of Final Airworthiness Directive

Comments

The FAA received comments from the Air Line Pilots Association, International (ALPA), and FedEx Express, who supported the NPRM without change.

Conclusion

This product has been approved by the aviation authority of another country and is approved for operation in the United States. Pursuant to the FAA's bilateral agreement with this State of Design Authority, it has notified the FAA of the unsafe condition described in the MCAI referenced above. The FAA reviewed the relevant data, considered the comment[s] received, and determined that air safety requires adopting this AD as proposed. Accordingly, the FAA is issuing this AD to address the unsafe condition on this product. Except for minor editorial changes, this AD is adopted as proposed in the NPRM. None of the changes will increase the economic burden on any operator.

Related Service Information Under 1 CFR Part 51

EASA AD 2021-0288 specifies procedures for repetitive inspections of the rear fittings of fuselage frame FR40 at stringer 27 for cracking, and repair of any cracking. This material is reasonably available because the interested parties have access to it through their normal course of business or by the means identified in the ADDRESSES section.

Costs of Compliance

The FAA estimates that this AD affects 67 airplanes of U.S. registry. The FAA estimates the following costs to comply with this AD:

Estimated Costs for Required Actions
Action | Labor cost | Parts cost | Cost per product | Cost on U.S. operators
Inspection | 6 work-hours × $85 per hour = $510 | $0 | $510 | $34,170, per inspection cycle.

The FAA estimates the following costs to do any necessary repair based on the results of any required inspection. The FAA has no way of determining the number of aircraft that might need this repair:

Estimated Costs of On-Condition Actions
Labor cost | Parts cost | Cost per product
31 work-hours × $85 per hour = $2,635 | $132 | $2,767

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive AD 2000-20-15, Amendment 39-11926 (65 FR 60349, October 11, 2000) (AD 2000-20-15); and

b. Adding the following new airworthiness directive:

2022-21-02 Airbus SAS: Amendment 39-22201; Docket No. FAA-2022-0986; Project Identifier MCAI-2021-01440-T.

(a) Effective Date

This airworthiness directive (AD) is effective December 14, 2022.

(b) Affected ADs

This AD replaces AD 2000-20-15, Amendment 39-11926 (65 FR 60349, October 11, 2000) (AD 2000-20-15).

(c) Applicability

This AD applies to Airbus SAS airplanes identified in paragraphs (c)(1) through (4) of this AD, certificated in any category, as specified in European Union Aviation Safety Agency (EASA) AD 2021-0288, dated December 21, 2021 (EASA AD 2021-0288).

(1) Model A300 B2-1C, B2K-3C, B2-203, B4-2C, B4-103, and B4-203 airplanes.

(2) Model A300 B4-603 and B4-622 airplanes.

(3) Model A300 B4-605R and B4-622R airplanes.

(4) Model A300 F4-605R airplanes.

(d) Subject

Air Transport Association (ATA) of America Code 53, Fuselage.

(e) Unsafe Condition

This AD was prompted by cracking of the rear fittings of fuselage frame FR40 at stringer 27, and a determination that reduced compliance times are necessary. The FAA is issuing this AD to address fatigue cracking of the rear fittings of fuselage frame FR40 at stringer 27, which could result in reduced structural integrity of the airplane.

(f) Compliance

Comply with this AD within the compliance times specified, unless already done.

(g) Requirements

Except as specified in paragraphs (h) and (i) of this AD: Comply with all required actions and compliance times specified in, and in accordance with, EASA AD 2021-0288.

(h) Exceptions to EASA AD 2021-0288

(1) Where paragraph (1) of EASA AD 2021-0288 specifies, for certain conditions, using the compliance time and repetitive intervals “in the applicable SB,” and where “the applicable SB” specifies that the “1st inspection will be done within [a specified number of flight cycles] after receipt of the Service Bulletin,” this AD requires compliance within the specified number of flight cycles after the effective date of this AD.

(2) Where EASA AD 2021-0288 refers to its effective date, this AD requires using the effective date of this AD.

(3) The “Remarks” section of EASA AD 2021-0288 does not apply to this AD.

(i) No Reporting Requirement

Although the service information referenced in EASA AD 2021-0288 specifies to submit certain information to the manufacturer, this AD does not include that requirement.

(j) Additional FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (k) of this AD. Information may be emailed to: 9-AVS-AIR-730-AMOC@faa.gov.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(k) Additional Information

For more information about this AD, contact Dan Rodina, Aerospace Engineer, Large Aircraft Section, FAA, International Validation Branch, 2200 South 216th St., Des Moines, WA 98198; telephone and fax 206-231-3225; email dan.rodina@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on December 14, 2022.

(i) European Union Aviation Safety Agency (EASA) AD 2021-0288, dated December 21, 2021.

(ii) [Reserved]

(4) For EASA AD 2021-0288, contact EASA, Konrad-Adenauer-Ufer 3, 50668 Cologne, Germany; telephone +49 221 8999 000; email ADs@easa.europa.eu; website easa.europa.eu. You may find this EASA AD on the EASA website at ad.easa.europa.eu.

(5) You may view this material at the FAA, Airworthiness Products Section, Operational Safety Branch, 2200 South 216th St., Des Moines, WA. For information on the availability of this material at the FAA, call 206-231-3195.

(6) You may view this material that is incorporated by reference at the National Archives and Records Administration (NARA). For information on the availability of this material at NARA, email fr.inspection@nara.gov, or go to: www.archives.gov/federal-register/cfr/ibr-locations.html.

Issued on September 28, 2022.
Christina Underwood,
Acting Director, Compliance & Airworthiness Division, Aircraft Certification Service.

[FR Doc. 2022-24310 Filed 11-8-22; 8:45 am]

BILLING CODE 4910-13-P